DEPARTMENT OF LABOR

Employment and Training Administration

[TA-W-71,711A]

Superior Technical Resources and Bestway, Inc., Leased Workers Working On-Site at OSRAM Sylvania, Consumer Lighting Division, a Subsidiary of OSRAM GmbH, St. Marys, PA; Amended Certification Regarding Eligibility To Apply for Worker Adjustment Assistance

In accordance with Section 223 of the Trade Act of 1974, as amended (“Act”), 19 U.S.C. 2273, the Department of Labor issued a Certification of Eligibility to Apply for Worker Adjustment Assistance on October 1, 2009, applicable to workers of Superior Technical Resources, leased workers working on-site at OSRAM Sylvania, Consumer Lighting Division, a subsidiary of OSRAM GmbH, St. Marys, Pennsylvania. The workers produce incandescent light bulbs. The notice was published in the Federal Register on November 17, 2009 (74 FR 59248).

At the request of a company official, the Department reviewed the certification for workers of the subject firm. The company reports that workers leased from Bestway, Inc. were employed on-site at the St. Marys, Pennsylvania location of OSRAM Sylvania, Consumer Lighting Division, a subsidiary of OSRAM GmbH.

The Department has determined that these workers were sufficiently under the control of OSRAM Sylvania, Consumer Lighting Division, a subsidiary of OSRAM GmbH to be considered leased workers.

Based on these findings, the Department is amending this certification to include workers leased from Bestway, Inc. working on-site at the St. Marys, Pennsylvania location of OSRAM Sylvania, Consumer Lighting Division, a subsidiary of OSRAM GmbH.

The amended notice applicable to TA-W-71,711A is hereby issued as follows:

All workers of Superior Technical Resources and Bestway, Inc. working on-site at OSRAM Sylvania, Consumer Lighting Division, a subsidiary of OSRAM GmbH, St. Marys, Pennsylvania (TA-W-71,711A), who became totally or partially separated from employment on or after July 1, 2008, through October 1, 2011, and all workers in the group threatened with total or partial separation from employment on the date of certification through two years from the date of certification, are eligible to apply for adjustment assistance under Chapter 2 of Title II of the Trade Act of 1974, as amended.

Signed at Washington, DC, this 11th day of May 2011.
Michael W. Jaffe,
Certifying Officer, Office of Trade Adjustment Assistance.

[FR Doc. 2011-12398 Filed 5-19-11; 8:45 am]

BILLING CODE 4510-FN-P